DEPARTMENT OF HEALTH AND HUMAN SERVICES

Food and Drug Administration

[Docket No. 02N-0454]

Agency Information Collection Activities; Submission for OMB Review; Comment Request; Notice of a Claim for Generally Recognized as Safe Exemption Based on a Generally Recognized as Safe Determination

AGENCY: Food and Drug Administration, HHS.

ACTION: Notice.

SUMMARY: The Food and Drug Administration (FDA) is announcing that the proposed collection of information listed below has been submitted to the Office of Management and Budget (OMB) for review and clearance under the Paperwork Reduction Act of 1995.

DATES: Submit written comments on the collection of information by March 5, 2003.

ADDRESSES: Submit written comments on the collection of information to the Office of Information and Regulatory Affairs, OMB, New Executive Office Bldg., 725 17th St. NW., rm. 10235, Washington, DC 20503, Attn: Stuart Shapiro, Desk Officer for FDA.

FOR FURTHER INFORMATION CONTACT: Peggy Robbins, Office of Information Resources Management (HFA-250), Food and Drug Administration, 5600 Fishers Lane, Rockville, MD 20857, 301-827-1223.

SUPPLEMENTARY INFORMATION: In compliance with 44 U.S.C. 3507, FDA has submitted the following proposed collection of information to OMB for review and clearance.

Notice of a Claim for GRAS Exemption Based on a GRAS Determination (OMB Control Number 0910-0342)—Extension

Description: Section 409 of the act (21 U.S.C. 348) establishes a premarket approval requirement for ``food additives;'' section 201(s) of the act (21 U.S.C. 321) provides an exemption from the definition of ``food additive'' and thus from the premarket approval requirement, for uses of substances that are generally recognized as safe (GRAS) by qualified experts. FDA is proposing a voluntary procedure whereby members of the food industry who determine that use of a substance satisfies the statutory exemption may notify FDA of that determination. The notice would include a detailed summary of the data and information that support the GRAS determination, and the notifier would maintain a record of such data and information. FDA would make the information describing the GRAS claim, and the agency's response to the notice, available in a publicly accessible file; the entire GRAS notice would be publicly available consistent with the Freedom of Information Act and other Federal disclosure statutes.

Description of Respondents: Manufacturers of Substances Used in Food and Feed.

In the Federal Register of October 31, 2002 (67 FR 66404), the agency requested comments on the proposed collection of information. No comments were received that pertained to this collection of information.

FDA estimates the burden of this collection of information as follows:

Table 1.—Estimated Annual Reporting Burden¹
21 CFR Section | No. of Respondents | Annual Frequency per Response | Total Annual ­Responses | Hours per Response | Total Hours
170.36 | 50 | 1 | 50 | 150 | 7,500
570.36 | 10 | 1 | 10 | 150 | 1,500
Total | 9,000
¹ There are no capital costs or operating and maintenance costs associated with this collection of information.

Table 2.—Estimated Annual Recordkeeping Burden¹
21 CFR Section | No. of ­Recordkeepers | Annual Frequency of Recordkeeping | Total Annual ­Records | Hours per ­Recordkeeper | Total Hours
170.36(c)(v) | 50 | 1 | 50 | 15 | 750
570.36(c)(v) | 10 | 1 | 10 | 15 | 150
Total | 900
¹ There are no capital costs or operating and maintenance costs associated with this collection of information.

The reporting requirement is for a proposed rule (62 FR 18937, April 17, 1997) that has not yet been issued as a final rule. In developing the proposed rule, FDA solicited input from representatives of the food industry on the reporting requirements, but could not fully discuss with those representatives the details of the proposed notification procedure. FDA received no comments on the agency's estimate of the hourly reporting requirements, and thus has no basis to revise that estimate at this time. During 1998, FDA received 12 notices that were submitted under the terms of the proposed rule. FDA received 23 notices in 1999, 30 notices in 2000, and 28 notices in 2001. To date, the number of annual notices is less than FDA's estimate; however, the number of annual notices could increase when the proposed rule becomes final.

Dated: January 28, 2003.
Margaret M. Dotzel,
Assistant Commissioner for Policy.

[FR Doc. 03-2458 Filed 1-31-03; 8:45 am]

BILLING CODE 4160-01-S